NATIONAL SCIENCE FOUNDATION

National Science Board; Sunshine Act Meeting

DATE AND TIME: October 10, 2002: 11 a.m.-11:15 a.m., Closed Session; October 10, 2002: 11:15 a.m.-11:30 a.m., Closed Session; October 10, 2002: 12 Noon-3 p.m., Open Session.

PLACE: The National Science Foundation, Room 1235, 4201 Wilson Boulevard, Arlington, VA 22230, http://www.nsf.gov/nsb.

STATUS: Part of this meeting will be closed to the public. Part of this meeting will be open to the public.

MATTERS TO BE CONSIDERED:

Thursday, October 10, 2002

Executive Closed Session (11 a.m.-11:15 a.m.)

Closed Session Minutes, August, 2002

Closed Session (11 a.m.-11:15 a.m.)

NSF Budget

Open Session (12 Noon-3 p.m.)

Science Presentations

• Biological Sciences

• Nanotechnology

Open Session Minutes, August, 2002

Closed Session Items for November, 2002

Chairman's Report

Director's Report

Presentations

• Math and Science Partnerships

• Facilities Management and Oversight

Committee Reports

Other Business

Gerard R. Glaser,
Executive Officer.

[FR Doc. 02-24835 Filed 9-25-02; 4:52 pm]

BILLING CODE 7555-01-M